DEPARTMENT OF TRANSPORTATION

Surface Transportation Board

[STB Finance Docket No. 34492]

Riverport Railroad, LLC—Acquisition Exemption-Jo-Davies/Carrol County Local Redevelopment Authority

Riverport Railroad, LLC (Riverport), a Class III rail carrier, has filed a verified notice of exemption under 49 CFR 1150.41 to acquire from Jo-Davies/Carrol County Local Redevelopment Authority (the Authority), the real estate and rail assets of a 50-mile line of railroad located at the former Savanna Army Ammo Depot near Savanna, IL, and adjacent to the Chicago Twin Cities main line of The Burlington Northern and Santa Fe Railway Company (BNSF) at BNSF milepost 156.9. Riverport has been leasing and operating the line under an agreement with the Authority since 1999,¹ and the sole purpose of this transaction will be to convert its leasehold interest into an ownership interest.

¹ See Riverport Railroad, L.L.C.—Lease and Operation Exemption—Jo-Davies/Carrol County Local Re-Development Authority, STB Finance Docket No. 33799 (STB served Sept. 16, 1999).

Riverport certifies that its projected annual revenues as a result of this transaction will not exceed $5 million, and thus the transaction will not result in the creation of a Class I or Class II rail carrier.

The transaction was scheduled to be consummated on or after April 15, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34492, must be filed with the Surface Transportation Board, 1925 K Street, NW., Washington, DC 20423-0001. In addition, one copy of each pleading must be served on John D. Heffner, John D. Heffner, PLLC, 1920 N Street, NW., Suite 800, Washington, DC 20005.

Board decisions and notices are available on our Web site at www.stb.dot.gov.

Decided: April 15, 2004.
By the Board, David M. Konschnik, Director, Office of Proceedings.
Vernon A. Williams,
Secretary.

[FR Doc. 04-9157 Filed 4-21-04; 8:45 am]

BILLING CODE 4915-01-P